DEPARTMENT OF TRANSPORTATION

Federal Transit Administration

FY 2018 Competitive Funding Opportunity: Pilot Program for Transit-Oriented Development Planning

AGENCY: Federal Transit Administration (FTA), DOT.

ACTION: Notice of Funding Opportunity (NOFO).

SUMMARY: The Federal Transit Administration (FTA) announces the opportunity to apply for approximately $25.79 million of funding under the Pilot Program for Transit-Oriented Development Planning (Catalog of Federal Domestic Assistance #20.500). As required by federal transit law and subject to funding availability, funds will be awarded competitively to support comprehensive planning associated with new fixed guideway and core capacity improvement projects.

DATES: Complete proposals must be submitted electronically through the GRANTS.GOV “APPLY” function by 11:59 p.m. EDT July 23, 2018. Prospective applicants should initiate the process by registering on the GRANTS.GOV website promptly to ensure completion of the application process before the submission deadline. Instructions for applying can be found on FTA's website at https://www.transit.dot.gov/TODPilot and in the “FIND” module of GRANTS.GOV. The GRANTS.GOV funding opportunity ID is FTA-2018-004-TPE. Mail and fax submissions will not be accepted.

FOR FURTHER INFORMATION CONTACT: Benjamin Owen, FTA Office of Planning and Environment, (202) 366-5602, or Benjamin.Owen@dot.gov. A TDD is available at 1-800-877-8339 (TDD/FIRS).

SUPPLEMENTARY INFORMATION:

Table of Contents

A. Program Description

B. Federal Award Information

C. Eligibility Information

D. Application and Submission Information

E. Application Review Information

F. Federal Award Administration Information

G. Federal Awarding Agency Contacts

H. Technical Assistance and Other Program Information

Appendix A: Registration in SAM and GRANTS.GOV

A. Program Description

Section 20005(b) of the Moving Ahead for Progress in the 21st Century Act (MAP-21; Pub. L. 112-141, July 6, 2012), with funding authorized by 49 U.S.C. 5338(a)(2)(B), authorizes FTA to award funds under the Pilot Program for Transit-Oriented Development (TOD) Planning (TOD Pilot Program) through a competitive process, as described in this notice, to local communities to integrate land use and transportation planning with a new fixed guideway or core capacity improvement transit capital project as defined in Federal transit statute. (See section C of this NOFO for more information about eligibility.)

As outlined in MAP-21, the TOD Pilot Program is intended to fund comprehensive planning that supports economic development, ridership, multimodal connectivity and accessibility, increased transit access for pedestrian and bicycle traffic, and mixed-use development near transit stations. The TOD Pilot Program also encourages identification of infrastructure needs and engagement with the private sector.

Consistent with direction in MAP-21, FTA is seeking comprehensive planning projects covering an entire transit capital project corridor, rather than proposals that involve planning for individual station areas or only a small section of the corridor. To ensure any proposed planning work reflects the needs and aspirations of the local community and results in concrete, specific deliverables and outcomes, transit project sponsors must partner with entities with land use planning authority in the transit project corridor to conduct the planning work.

B. Federal Award Information

Federal transit law authorizes FTA to make grants for eligible comprehensive planning projects under Section 20005(b) of MAP-21, with funding authorized by 49 U.S.C. 5338(a)(2)(B). FTA intends to award all available funding to selected applicants responding to this NOFO.

Only proposals from eligible recipients for eligible activities will be considered for funding. FTA anticipates minimum grant awards of $250,000 and maximum grant awards of $2,000,000. The maximum period of performance allowed for the work covered by the award is 36 months.

C. Eligibility Information

1. Eligible Applicants

Applicants under the TOD Pilot Program must be FTA grantees (i.e., existing direct and designated recipients) as of the publication date of this NOFO. An applicant must either be the project sponsor of an eligible transit capital project as defined below in section C, subsection 3 or an entity with land use planning authority in an eligible transit capital project corridor. Except in cases where an applicant is both the sponsor of an eligible transit project and has land use authority in at least a portion of the transit project corridor, the transit project sponsor and at least one entity in the project corridor with land use planning authority must partner on the proposed comprehensive planning project. Documentation of this partnership must be included with the application; see section D, subsection 2 of this NOFO for further information.

Only one application per transit capital project corridor may be submitted to FTA. Multiple applications submitted for a single transit capital project corridor indicate that partnerships are not in place and FTA will reject all of the applications.

2. Cost Sharing or Matching

The maximum Federal funding share is 80 percent.

Eligible sources of local match include the following: Cash from non-Government sources other than revenues from providing public transportation services; revenues derived from the sale of advertising and concessions; amounts received under a service agreement with a State or local social service agency or private social service organization; revenues generated from value capture financing mechanisms; or funds from an undistributed cash surplus; replacement or depreciation cash fund or reserve; or new capital. In-kind contributions are permitted. Transportation Development Credits (formerly referred to as Toll Revenue Credits) may not be used to satisfy the local match requirement. FTA may prioritize projects proposed with a higher non-Federal share.

3. Other Eligibility Criteria

i. Eligible Transit Projects

Any comprehensive planning work proposed for funding under the TOD Pilot Program must be associated with an eligible transit capital project. To be eligible, the proposed transit capital project must be a new fixed guideway project or a core capacity improvement project as defined in Section 5309(a) of title 49, United States Code.

A fixed guideway is a public transportation facility:

(A) Using and occupying a separate right-of-way for the exclusive use of public transportation;

(B) using rail;

(C) using a fixed catenary system;

(D) for a passenger ferry system; or

(E) for a bus rapid transit system.

A new fixed guideway capital project is defined in statute to be:

(A) A new fixed guideway project that is a minimum operable segment or extension to an existing fixed guideway system; or

(B) a fixed guideway bus rapid transit project that is a minimum operable segment or an extension to an existing bus rapid transit system.

A fixed guideway bus rapid transit project is defined more specifically in statute as a bus capital project:

(A) In which the majority of the project operates in a separated right-of-way dedicated for public transportation use during peak periods;

(B) that represents a substantial investment in a single route in a defined corridor or subarea; and

(C) that includes features that emulate the services provided by rail fixed guideway public transportation systems, including:

(i) Defined stations;

(ii) traffic signal priority for public transportation vehicles;

(iii) short headway bidirectional services for a substantial part of weekdays and weekend days; and

(iv) any other features the Secretary may determine are necessary to produce high-quality public transportation services that emulate the services provided by rail fixed guideway public transportation systems.

A core capacity improvement project is defined in statute as a substantial corridor-based capital investment in an existing fixed guideway system that increases the capacity of the corridor by not less than 10 percent. The term does not include project elements designed to maintain a state of good repair of the existing fixed guideway system.

Any transit capital project that does not meet the statutory definition above of either a new fixed guideway project or a core capacity improvement project is not eligible under the TOD Pilot Program.

ii. Eligible Activities

Any comprehensive planning efforts funded under the TOD Pilot Program must address all six aspects of the general authority stipulated in Section 20005(b)(2) of MAP-21:

i. Enhances economic development, ridership, and other goals established during the project development and engineering processes;

ii. facilitates multimodal connectivity and accessibility;

iii. increases access to transit hubs for pedestrian and bicycle traffic;

iv. enables mixed-use development;

v. identifies infrastructure needs associated with the eligible project; and

vi. includes private sector participation.

MAP-21 also requires the comprehensive planning effort to advance the metropolitan planning organization's metropolitan transportation plan. Further, MAP-21 requires applicants to establish performance criteria for the planning effort.

Following are examples of the types of substantial deliverables that may result from the comprehensive planning work. Substantial deliverables are reports, plans and other materials that represent the key accomplishments of the comprehensive planning effort and that must be submitted to FTA as each is completed. Substantial deliverables may include, but are not restricted to, the following:

i. A comprehensive plan report that includes corridor development policies and station development plans, a proposed timeline, and recommended financing strategies for these plans, which may include use of Federal loan programs such as USDOT's Transportation Infrastructure Finance and Innovation Act (TIFIA) and Railroad Rehabilitation Improvement and Financing (RRIF) programs;

ii. A strategic plan report that includes corridor specific planning strategies and program recommendations to support comprehensive planning;

iii. Revised TOD-focused zoning codes and/or resolutions;

iv. A report evaluating and recommending financial tools to encourage TOD implementation such as land banking, value capture, and development financing;

v. Policies to encourage TOD; and/or

vi. Local or regional resolutions to implement TOD plans and/or establish TOD funding mechanisms.

iii. Ineligible Activities

Applications should not include the following activities, which include activities that are targeted to only a single location rather than a comprehensive corridor-focused TOD planning study:

i. TOD planning work in a single transit capital project station area;

ii. Transit project development activities that would be reimbursable under an FTA capital grant, such as project planning, the design and engineering of stations and other facilities, environmental analyses needed for the transit capital project, or costs associated with specific joint development activities;

iii. Capital projects, such as land acquisition, construction, and utility relocation; and

iv. Site- or parcel-specific planning, such as the design of individual structures.

D. Application and Submission Information

1. Address

Applications must be submitted electronically through GRANTS.GOV. General information for submitting applications through GRANTS.GOV can be found at https://www.transit.dot.gov/funding/grants/applying/applying-fta-funding along with specific instructions for the forms and attachments required for submission. Mail and fax submissions will not be accepted.

2. Content and Form of Application Submission

Proposals should include only a completed SF 424 Mandatory form (downloaded from GRANTS.GOV) and the following attachments to the completed SF 424:

i. A completed Applicant and Proposal Profile supplemental form for the TOD Pilot Program (supplemental form) found on the FTA website at https://www.transit.dot.gov/TODPilot. The information on the supplemental form will be used to determine applicant and project eligibility for the program, and to evaluate the proposal against the selection criteria described in part E of this notice;

ii. A map of the proposed study area showing the transit project alignment and stations, major roadways, major landmarks, and the geographic boundaries of the proposed comprehensive planning activities;

iii. Documentation of a partnership between the transit project sponsor and an entity in the project corridor with land use planning authority to conduct the planning work, if the applicant does not have both of these responsibilities. Documentation may consist of a memorandum of agreement or letter of intent signed by all parties that describes the parties' roles and responsibilities in the proposed comprehensive planning project; and

iv. Documentation of any funding commitments for the proposed planning work.

Information such as proposer name, Federal amount requested, local match amount, description of areas served, etc. may be requested in varying degrees of detail on both the SF 424 form and supplemental form. Proposers must fill in all fields unless stated otherwise on the forms. Proposers should use both the “Check Package for Errors” and the “Validate Form” validation buttons on both forms to check all required fields on the forms, and ensure that the federal and local amounts specified are consistent. In the event of errors with the supplemental form, FTA recommends saving the form on your computer and ensuring that JavaScript is enabled in your PDF reader. The information listed below MUST be included on the SF 424 and supplemental forms for all requests for TOD Pilot Program funding.

The SF 424 and supplemental form will prompt applicants to address the following items:

1. Provide the name of the lead applicant and, if applicable, the specific co-sponsors submitting the application.

2. Provide the applicant's Dun and Bradstreet (D&B) Data Universal Numbering System (DUNS) number.

3. Provide contact information including: Contact name, title, address, fax and phone number, and email address.

4. Specify the Congressional district(s) where the planning project will take place.

5. Identify the project title and project scope to be funded, including anticipated substantial deliverables and the milestones at which they will be provided to FTA.

6. Identify and describe an eligible transit project that meets the requirements of section C, subsection 3 of this notice.

7. Provide evidence of a partnership between the transit project sponsor and at least one agency with land use authority in the transit capital project corridor, as described earlier in this subsection.

8. Address the six aspects of general authority under MAP-21 Section 20005(b)(2).

9. Address each evaluation criterion separately, demonstrating how the project responds to each criterion as described in section E.

10. Provide a line-item budget for the total planning effort, with enough detail to indicate the various key components of the project.

11. Identify the Federal amount requested.

12. Document the matching funds, including amount and source of the match (may include local or private sector financial participation in the project). Describe whether the matching funds are committed or planned, and include documentation of the commitments.

13. Address whether other Federal funds have been sought or received for the project.

14. Provide a project schedule and process for the development of the comprehensive plan that includes anticipated dates for incorporating the planning work effort into the region's unified planning work program, completing major tasks and substantial deliverables, and completing the overall planning effort (which, per the maximum period of performance, must occur within 36 months of grant execution).

15. Describe how the planning work advances the metropolitan transportation plan of the metropolitan planning organization.

16. Propose performance criteria for the development and implementation of the planning work.

17. Identify potential State, local or other impediments to the planning work and its implementation, and how the work will address them.

For each of the above indicate yes or no, and attach a link to any applicable documents or websites. Do not attach the documentation.

FTA will not consider any additional materials submitted by applicants in its evaluation of proposals. The total length of the completed supplemental form and documentation of partnerships and funding commitments should be no more than 15 pages.

3. Unique Entry Identifier and System for Award Management (SAM)

Each applicant is required to: (1) Be registered in SAM before submitting an application; (2) provide a valid unique entity identifier in its application; and (3) continue to maintain an active SAM registration with current information at all times during which the applicant has an active Federal award or an application or plan under consideration by FTA. These requirements do not apply if the applicant: (1) Is an individual; (2) is excepted from the requirements under 2 CFR 25.110(b) or (c); or (3) has an exception approved by FTA under 2 CFR 25.110(d). FTA may not make an award until the applicant has complied with all applicable unique entity identifier and SAM requirements. If an applicant has not fully complied with the requirements by the time FTA is ready to make an award, FTA may determine that the applicant is not qualified to receive an award and use that determination as a basis for making a Federal award to another applicant. All applicants must provide a unique entity identifier provided by SAM. Registration in SAM may take as little as 3-5 business days, but since there could be unexpected steps or delays (for example, if you need to obtain an Employer Identification Number), FTA recommends allowing ample time, up to several weeks, for completion of all steps. For additional information on obtaining a unique entity identifier, please visit www.sam.gov.

4. Submission Dates and Times

Project proposals must be submitted electronically through http://www.GRANTS.GOV by 11:59 p.m. July 23, 2018. GRANTS.GOV attaches a time stamp to each application at the time of submission. Proposals submitted after the deadline will only be considered under extraordinary circumstances not under the applicant's control. Mail and fax submissions will not be accepted.

Within 48 hours after submitting an electronic application, the applicant should receive two email messages from GRANTS.GOV: (1) Confirmation of successful transmission to GRANTS.GOV, and (2) confirmation of successful validation by GRANTS.GOV. FTA will then validate the application and will attempt to notify any applicants whose applications could not be validated (for instance, due to a missing or scanned Applicant and Proposal Profile supplemental form or the use of a form for a different funding opportunity). If confirmations of successful validation are not received and a notice of failed validation or incomplete materials is received, the applicant must address the reason for the failed validation, as described in the email notice, and resubmit before the submission deadline. If making a resubmission for any reason, include all original attachments regardless of which attachments were updated and check the box on the supplemental form indicating this is a resubmission. An application that is submitted at the deadline and cannot be validated will be marked as incomplete, and such applicants will not receive additional time to re-submit.

Any addenda that FTA releases on the application process will be posted at https://www.transit.dot.gov/TODPilot. Important: FTA urges proposers to submit their applications at least 96 hours prior to the due date to allow time to receive the validation messages and to correct any problems that may have caused a rejection notification. GRANTS.GOV scheduled maintenance and outage times are announced on the GRANTS.GOV website at http://www.GRANTS.GOV. Deadlines will not be extended due to scheduled maintenance or outages.

Proposers are encouraged to begin registration process on the GRANTS.GOV site well in advance of the submission deadline. Registration is a multi-step process, which may take several weeks to complete before an application can be submitted. Registered proposers may still be required to take steps to keep their registration up to date before submissions can be made successfully: (1) Registration in the System for Award Management (SAM) is renewed annually and (2) persons making submissions on behalf of the Authorized Organization Representative (AOR) must be authorized in GRANTS.GOV by the AOR to make submissions. Instructions on the GRANTS.GOV registration process are listed in Appendix A.

5. Funding Restrictions

See section C of this NOFO for detailed eligibility requirements. FTA emphasizes that any comprehensive planning projects funded through the TOD Pilot Program must be associated with an eligible transit project, specifically a new fixed guideway project or a core capacity improvement project as defined in Federal transit statute, 49 U.S.C. 5309(a).

6. Other Submission Requirements

Project proposals must be submitted electronically through http://www.GRANTS.GOV by 11:59 p.m. E.D.T. on July 23, 2018. Mail and fax submissions will not be accepted.

E. Application Review Information

1. Criteria

FTA will evaluate proposals that include all components identified in section D of this notice according to the following three criteria:

a. Demonstrated Need

FTA will evaluate each project to determine the need for funding based on the following factors:

i. Potential state, local or other impediments to implementation of the products of the comprehensive planning effort, and how the workplan will address them;

ii. How the proposed work will advance TOD implementation in the corridor and region;

iii. Justification as to why Federal funds are needed for the proposed work; and

iv. Extent to which the transit project corridor could benefit from TOD planning.

b. Strength of the Work Plan, Schedule and Process

FTA will evaluate the strength of the work plan, schedule and process included in an application based on the following factors:

i. Extent to which the schedule contains sufficient detail, identifies all steps needed to implement the work proposed, and is achievable;

ii. The proportion of the project corridor covered by the work plan;

iii. Extent of partnerships, including with non-public sector entities;

iv. The partnerships' technical capability to develop, adopt and implement the plans, based on FTA's assessment of the applicant's description of the policy formation, implementation, and financial roles of the partners, and the roles and responsibilities of proposed staff; and

v. Whether the performance measures identified in the application relate to the goals of the planning work.

c. Funding Commitments

FTA will assess the status of local matching funds for the planning work. Applications demonstrating that matching funds for the proposed planning work are committed will receive higher ratings from FTA on this factor. Proposed planning projects for which matching funding sources have been identified, but are not yet committed, will be given lower ratings under this factor by FTA, as will proposed projects for which in-kind contributions constitute the primary or sole source of matching funds.

2. Review and Selection Process

In addition to other FTA staff that may review the proposals, a technical evaluation committee will evaluate proposals based on the published evaluation criteria. Members of the technical evaluation committee and other FTA staff may request additional information from applicants, if necessary. Based on the findings of the technical evaluation committee, the FTA Administrator will determine the final selection of projects for program funding. Among the factors, FTA may consider geographic diversity, diversity in the size of the grantees receiving funding, and/or the applicant's receipt of other competitive awards in determining the allocation of program funds. FTA may prioritize projects proposed with a higher local share.

In addition to the criteria and considerations outlined in this section, the FTA Administrator will take into account the following key Departmental objectives:

(A) Supporting economic vitality at the national and regional level;

(B) Leveraging Federal funding to attract other, non-Federal sources of infrastructure investment, including value capture;

(C) Using innovative approaches to improve safety and expedite project delivery; and,

(D) Holding grant recipients accountable for their performance and achieving specific, measurable outcomes identified by grant applicants.

Prior to making an award, FTA is required to review and consider any information about the applicant that is in the designated integrity and performance system accessible through SAM (currently FAPIIS). An applicant, at its option, may review information in the designated integrity and performance systems accessible through SAM and comment on any information about itself that a Federal awarding agency previously entered and is currently in the designated integrity and performance system accessible through SAM. FTA will consider any comments by the applicant, in addition to the other information in the designated integrity and performance system, in making a judgment about the applicant's integrity, business ethics, and record of performance under Federal awards when completing the review of risk posed by applicants as described in the 2 CFR 200.205 Federal awarding agency review of risk posed by applicants.

F. Federal Award Administration Information

1. Federal Award Notices

Subsequent to an announcement by the FTA Administrator of the final project selections, which will be posted on the FTA website, FTA will publish a list of the selected projects, Federal award amounts, and recipients in the Federal Register. Project recipients should contact their FTA Regional Offices for additional information regarding allocations for projects under the TOD Pilot Program. FTA will issue specific guidance to recipients regarding pre-award authority at the time of selection; see subsection 3 below for further information.

Local funds must be committed and grants awarded by September 30, 2019.

2. Award Administration

Funds under the TOD Pilot Program are available to existing FTA grantees. The anticipated minimum and maximum award amounts are $250,000 and $2,000,000, respectively. Only proposals from eligible recipients for eligible activities will be considered for funding. Due to funding limitations, proposers that are selected for funding may receive less than the amount originally requested. In those cases, applicants must be able to demonstrate that the proposed projects are still viable and can be completed with the amount awarded.

3. Administrative and National Policy Requirements

i. Pre-Award Authority

FTA will issue specific guidance to recipients regarding pre-award authority at the time of selection. FTA does not provide pre-award authority for competitive funds until projects are selected and even then there are Federal requirements that must be met before costs are incurred. Funds under this NOFO cannot be used to reimburse applicants for otherwise eligible expenses incurred prior to FTA award of a Grant Agreement until FTA has issued pre-award authority for selected projects, or unless FTA has issued a “Letter of No Prejudice” for the project before the expenses are incurred. For more information about FTA's policy on pre-award authority, please see the FY 2017 Apportionment Notice published on January 19, 2017. https://www.gpo.gov/fdsys/pkg/FR-2017-01-19/pdf/2017-01194.pdf.

ii. Grant Requirements

If selected, awardees will apply for a grant through FTA's Transit Award Management System (TrAMS). Recipients of TOD Pilot Program funds are subject to the grant requirements of the Section 5303 Metropolitan Planning program, including those of FTA Circular 8100.1C and Circular 5010.1E. All competitive grants, regardless of award amount, will be subject to the Congressional Notification and release process. Technical assistance regarding these requirements is available from each FTA regional office.

iii. Planning

FTA encourages proposers to notify the appropriate metropolitan planning organizations in areas likely to be served by the funds made available under this program. Selected projects must be incorporated into the unified planning work programs of metropolitan areas before they are eligible for FTA funding or pre-award authority.

iv. Standard Assurances

The applicant assures that it will comply with all applicable Federal statutes, regulations, executive orders, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

4. Reporting

Post-award reporting requirements include submission of Federal Financial Reports and Milestone Progress Reports in FTA's electronic grants management system on a quarterly basis. Awardees must also submit copies of the substantial deliverables identified in the work plan to the FTA regional office at the corresponding milestones.

G. Federal Awarding Agency Contact

For program-specific questions, please contact Benjamin Owen, Office of Planning and Environment, (202) 366-5602, email: Benjamin.Owen@dot.gov. A TDD is available at 1-800-877-8339 (TDD/FIRS). Any addenda that FTA releases on the application process will be posted at https://www.transit.dot.gov/TODPilot. To ensure applicants receive accurate information about eligibility or the program, the applicant is encouraged to contact FTA directly, rather than through intermediaries or third parties. FTA staff may also conduct briefings on the FY 2018 competitive grants selection and award process upon request.

H. Technical Assistance and Other Program Information

This program is not subject to Executive Order 12372, “Intergovernmental Review of Federal Programs.” FTA will consider applications for funding only from eligible recipients for eligible projects as listed in Section C.

Complete applications must be submitted through GRANTS.GOV by 11:59 p.m. EDT July 23, 2018. For issues with GRANTS.GOV please contact GRANTS.GOV by phone at 1-800-518-4726 or by email at support@grants.gov. Contact information for FTA's regional offices can be found on FTA's website at www.transit.dot.gov.

K. Jane Williams,
Acting Administrator.

Appendix A

Registration In Sam And Grants.Gov

Registration in Brief

Registration takes approximately 3-5 business days, but allow 4 weeks for completion of all steps.

STEP 1: Obtain DUNS Number

Same day. If requested by phone (1-866-705-5711) DUNS is provided immediately. If your organization does not have one, you will need to go to the Dun & Bradstreet website at http://fedgov.dnb.com/webform [EXIT Disclaimer] to obtain the number. *Information for Foreign Registrants.*Webform requests take 1-2 business days.

STEP 2: Register With SAM

Three to five business days or up to two weeks. If you already have a TIN, your SAM registration will take 3-5 business days to process. If you are applying for an EIN please allow up to 2 weeks. Ensure that your organization is registered with the System for Award Management (SAM) at System for Award Management (SAM). If your organization is not, an authorizing official of your organization must register.

STEP 3: Username & Password

Same day. Complete your AOR (Authorized Organization Representative) profile on Grants.gov and create your username and password. You will need to use your organization's DUNS Number to complete this step. https://apply07.grants.gov/apply/OrcRegister.

STEP 4: AOR Authorization

*Same day. The E-Business Point of Contact (E-Biz POC) at your organization must login to Grants.gov to confirm you as an Authorized Organization Representative (AOR). Please note that there can be more than one AOR for your organization. In some cases the E-Biz POC is also the AOR for an organization. *Time depends on responsiveness of your E-Biz POC.

STEP 5: TRACK AOR STATUS

At any time, you can track your AOR status by logging in with your username and password. Login as an Applicant (enter your username & password you obtained in Step 3) using the following link: applicant_profile.jsp.

[FR Doc. 2018-10964 Filed 5-23-18; 8:45 am]

BILLING CODE 4910-57-P